DEPARTMENT OF ENERGY

Federal Energy Regulatory Commission

Notice of Staff Attendance at Southwest Power Pool Board of Directors Meetings

The Federal Energy Regulatory Commission hereby gives notice that members of its staff may attend the meetings of the Southwest Power Pool, Inc. (SPP) Board of Directors, as noted below. Their attendance is part of the Commission's ongoing outreach efforts.

All meetings will be held at: The Marriott Las Colinas, 223 West Las Colinas Boulevard, Irving, TX 75039.

The Board meeting is June 13-14 (1:30 p.m.-5 p.m. and 8 a.m.-5 p.m.).

The discussions may address matters at issue in the following proceedings:

Docket No. ER06-451, Southwest Power Pool, Inc.

Docket No. ER08-1419, Southwest Power Pool, Inc.

Docket No. ER09-659, Southwest Power Pool, Inc.

Docket No. ER09-1050, Southwest Power Pool, Inc.

Docket No. ER10-696, Southwest Power Pool, Inc.

Docket No. ER10-941, Southwest Power Pool, Inc.

Docket No. ER10-1069, Southwest Power Pool, Inc.

Docket No. ER09-1254, Southwest Power Pool, Inc.

Docket No. ER10-1269, Southwest Power Pool, Inc.

Docket No. ER10-1697, Southwest Power Pool, Inc.

Docket No. ER10-2244, Southwest Power Pool, Inc.

Docket No. ER11-13, Southwest Power Pool, Inc.

Docket No. ER11-2428, Southwest Power Pool, Inc.

Docket No. ER11-2528, Southwest Power Pool, Inc.

Docket No. ER11-2677, Southwest Power Pool, Inc.

Docket No. ER11-2711, Southwest Power Pool, Inc.

Docket No. ER11-2719, Southwest Power Pool, Inc.

Docket No. ER11-2758, Southwest Power Pool, Inc.

Docket No. ER11-2781, Southwest Power Pool, Inc.

Docket No. ER11-2787, Southwest Power Pool, Inc.

Docket No. ER11-2861, Southwest Power Pool, Inc.

Docket No. ER11-3230, Southwest Power Pool, Inc.

Docket No. ER11-3243, Southwest Power Pool, Inc.

Docket No. ER11-3452, Southwest Power Pool, Inc.

Docket No. ER11-3453, Southwest Power Pool, Inc.

Docket No. ER11-3494, Southwest Power Pool, Inc.

Docket No. ER11-3501, Southwest Power Pool, Inc.

Docket No. ER11-3504, Southwest Power Pool, Inc.

Docket No. ER11-3509, Southwest Power Pool, Inc.

Docket No. ER11-3511, Southwest Power Pool, Inc.

Docket No. ER11-3489, Southwest Power Pool, Inc.

Docket No. ER11-3474, Southwest Power Pool, Inc.

Docket No. ER11-3478, Southwest Power Pool, Inc.

Docket No. ER11-3666, Southwest Power Pool, Inc.

Docket No. ER11-3455, Southwest Power Pool, Inc.

Docket No. ER11-3622, Southwest Power Pool, Inc.

Docket No. ER11-3627, Southwest Power Pool, Inc.

Docket No. ER11-3650, Southwest Power Pool, Inc.

Docket No. ER11-3299, Southwest Power Pool, Inc.

Docket No. ER11-3331, Southwest Power Pool, Inc.

Docket No. ER11-3450, Southwest Power Pool, Inc.

Docket No. ER11-3451, Southwest Power Pool, Inc.

Docket No. ER11-3490, Southwest Power Pool, Inc.

Docket No. ER11-3503, Southwest Power Pool, Inc.

Docket No. ER11-3599, Southwest Power Pool, Inc.

Docket No. ER11-3601, Southwest Power Pool, Inc.

Docket No. EL11-34, Midwest Independent System Transmission Operator, Inc.

These meetings are open to the public.

For more information, contact John Rogers, Office of Energy Market Regulation, Federal Energy Regulatory Commission at (202)-502-8564 or john.rogers@ferc.gov.

Dated: June 9, 2011.
Kimberly D. Bose,
Secretary.

[FR Doc. 2011-14901 Filed 6-15-11; 8:45 am]

BILLING CODE 6717-01-P